NATIONAL CREDIT UNION ADMINISTRATION

Submission for OMB Review; Comment Request

AGENCY: National Credit Union Administration (NCUA).

ACTION: Notice.

SUMMARY: The National Credit Union Administration (NCUA) will submit the following information collection requests to the Office of Management and Budget (OMB) for review and clearance in accordance with the Paperwork Reduction Act of 1995, on or after the date of publication of this notice.

DATES: Comments should be received on or before November 21, 2019 to be assured of consideration.

ADDRESSES: Send comments regarding the burden estimates, or any other aspect of the information collections, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Suite 6032, Alexandria, VA 22314, or email at PRAComments@ncua.gov.

FOR FURTHER INFORMATION CONTACT: Copies of the submission may be obtained by contacting Dawn Wolfgang at (703) 548-2279, emailing PRAComments@ncua.gov, or viewing the entire information collection request at www.reginfo.gov.

SUPPLEMENTARY INFORMATION:

OMB Number: 3133-0004.

Type of Review: Revision of a currently approved collection.

Title: NCUA Call Report.

Forms: NCUA Form 5300.

Abstract: Sections 106 and 202 of the Federal Credit Union Act require federally insured credit unions (FICUs) to make financial reports to the NCUA. Section 741.6 of the NCUA Rules and Regulations requires all FICUs to submit a Call Report (NCUA Form 5300) quarterly.

Financial information collected through the Call Report is essential to NCUA supervision of federal credit unions. This information also facilitates NCUA monitoring of other credit unions with share accounts insured by the National Credit Union Share Insurance Fund (NCUSIF).

Estimated Total Annual Burden Hours: 84,928.

Reasons for change: The Profile (NCUA Form 4501A) and its burden requirements have been removed from this OMB control number and NCUA will obtain a separate OMB control number. The burden hours reflect this adjustment and a reduction in the number of respondents due to the decline in the number of FICUs from 5,375 to 5,308. Revisions are attributed to the issuance of account standards codifications (ASC) by the Financial Accounting Standards Board and the modification to the Payday Alternative Loan caption to include PALs II. These revisions will not alter the estimated burden hours to complete this filing. Modifications to the account code classifications and the revisions to text will not impact the burden.

OMB Number: 3133-NEW.

Type of Review: New collection.

Title: NCUA Form 4501A.

Abstract: Sections 106 and 202 of the Federal Credit Union Act require federally insured credit unions to make financial reports to the NCUA. Section 741.6 requires insured credit unions to submit a Credit Union Profile (NCUA Form 4501A) and update the Profile with 10 days of election or appointment of senior management or volunteer officials or 30 days of other changes in Program information. The NCUA website further directs credit unions to review and certify their Profiles every Call Report (OMB No. 3133-0004) cycle.

Statistical information collected through the Profile is essential to NCUA supervision of federal credit unions. This information also facilitates NCUA monitoring of other credit unions with share accounts insured by the National Credit Union Share Insurance Fund (NCUSIF).

Estimated Total Annual Burden Hours: 42,464.

Reasons for change: The Profile (NCUA Form 4501A) and its burden requirements have been removed from OMB control number 3133-0004 due to technology resource constraints that have created different revision cycles. A revision to this form from the previous submission includes a modification to the Payday Alternative Loan caption to include PALs II.

By Gerard Poliquin, Secretary of the Board, the National Credit Union Administration, on October 16, 2019.
Dated: October 17, 2019.
Dawn D. Wolfgang,
NCUA PRA Clearance Officer.

[FR Doc. 2019-22965 Filed 10-21-19; 8:45 am]

BILLING CODE 7535-01-P